AGENCY FOR INTERNATIONAL DEVELOPMENT

Board for International Food and Agricultural Development; One Hundred and Forty-Seventh Meeting; Notice of Meeting

Pursuant to the Federal Advisory Committee Act, notice is hereby given of the one hundred and forty-seventh meeting of the Board for International Food and Agricultural Development (BIFAD). The meeting will be held from 8:30 a.m. to 4 p.m. on May 11, 2006 in the ground floor meeting room of the National Association of State Universities & Land Grant Colleges (NASULGC), at 1307 New York Avenue, NW., Washington, DC.

The BIFAD will hear briefings on the Title XII legislation, U.S. Government and U.S. university support for agriculture development in Africa; USAID and university partnerships; the status of portfolio of the Collaborative Research Support Programs (CRSPs), and other items of current interest.

The meeting is free and open to the public. Those wishing to attend the meeting or obtain additional information about BIFAD should contact John Rifenbark, the Designated Federal Officer for BIFAD. Write him in care of the U.S. Agency for International Development, Ronald Reagan Building, Office of Agriculture, Bureau for Economic Growth, Agriculture and Trade, 1300 Pennsylvania Avenue, NW., Room 2.11-004, Washington DC, 20523-2110 or telephone him at (202) 712-0163 or fax (202) 216-3010.

John T. Rifenbark,
USAID Designated Federal Officer for BIFAD, Office of Agriculture, Bureau for Economic Growth, Agriculture & Trade, U.S. Agency for International Development.

[FR Doc. E6-5976 Filed 4-20-06; 8:45 am]

BILLING CODE 6116-01-P